DEPARTMENT OF THE INTERIOR

Bureau of Land Management

[OR-958-1430-ET; HAG-04-0047; WAOR-56583]

Public Land Order No. 7608; Transfer of Jurisdiction, Chief Joseph Dam Additional Units Project; Washington

AGENCY: Bureau of Land Management, Interior.

ACTION: Public land order.

SUMMARY: This order transfers jurisdiction over 400.27 acres of land to the United States Department of Army, Corp of Engineers, and withdraws the lands from surface entry and mining for a period of 20 years for the Chief Joseph Dam Additional Units Project.

EFFECTIVE DATE: August 9, 2004.

FOR FURTHER INFORMATION CONTACT: Claire K. Wilson, Seattle District, COE, 206-764-6088, or Charles R. Roy, BLM Oregon/Washington State Office, 503-808-6189.

SUPPLEMENTARY INFORMATION: Management of grazing, wildlife habitat and mitigation areas, recreation, fire protection, public access, cultural resources, and realty actions on the withdrawn lands will be under terms and conditions that have been agreed upon between the Corps of Engineers and the Bureau of Land Management and which may be revised by consent of both parties.

Order

By virtue of the authority vested in the Secretary of the Interior by Section 204 of the Federal Land Policy and Management Act of 1976, 43 U.S.C. 1714 (2000), it is ordered as follows:

1. Subject to valid existing rights, the following described public lands are hereby withdrawn from settlement, sale, location, or entry under the general land laws, including the United States mining laws (30 U.S.C. Ch. 2 (2000)), and jurisdiction is transferred to the United States Department of Army, Corps of Engineers, and reserved for uses in support of the Chief Joseph Dam Additional Units Project:

Willamette Meridian

T. 29 N., R. 26 E.,

Sec. 9, SW¼SW¼;

Sec. 30, lot 2.

T. 30 N., R. 26 E.,

Sec. 25, NW¼NE¼;

Sec. 35, SW¼SE¼.

T. 30 N., R. 27 E.,

Sec. 28, SE¼SE¼;

Sec. 29, NE¼NW¼;

Sec. 34, SW¼NW¼ and NE¼SW¼.

T. 30 N., R. 28 E.,

Sec. 9, SE¼SE¼;

Sec. 14, NE¼SW¼.

The areas described aggregate 400.27 acres in Douglas County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: July 7, 2004.
Rebecca W. Watson,
Assistant Secretary—Land and Minerals Management.

[FR Doc. 04-18136 Filed 8-6-04; 8:45 am]

BILLING CODE 4310-33-P